DEPARTMENT OF ENERGY

Federal Energy Regulatory Commission

Notice of Meeting

May 23, 2002.

Correction

In notice document 02-13473 appearing on page 37414 in the issue of Wednesday, May 29, 2002, make the following corrections:

1. In the third column, the date after the subject heading should read as set forth above.

2. In the same column, after the heading DATE AND TIME:, the date “May 15, 2002”, should read “May 30, 2002”.

[FR Doc. C2-13473 Filed 5-30-02; 8:45 am]

BILLING CODE 1505-01-D